DEPARTMENT OF COMMERCE

Economic Development Administration

Notice of Petitions by Producing Firms for Determination of Eligibility To Apply for Trade Adjustment Assistance

AGENCY: Economic Development Administration (EDA), Commerce.

ACTION: To give all interested parties an opportunity to comment.

Petitions have been accepted for filing on the dates indicated from the firms listed below.

List of Petition Action by Trade Adjustment Assistance for Period January 22, 2004-February 20, 2004
Firm name | Address | Date petition accepted | Product
Cord Master Engineering Co., Inc | 1544 Curran Highway, North Adams, MA 01247 | 1/28/2004 | Power supply cords.
Tillmann Tool & Die, Inc | 821 Buffalo Avenue, Breckenridge, MN 56520 | 1/29/2004 | Plastic injection molds and mold components.
Helena Industries, Inc | 1325 Helena Avenue, Helena, MT 59601 | 2/2/2004 | Briefcases.
Denton Vacuum, LLC | 1259 North Church Street, Moorestown, NJ 08057 | 2/2/2004 | Self-contained cold & ultra-fine grain sputter coaters; evaporation, sputtering and high vacuum carbon evaporator systems; multi-cathode DC/RF magnetron sputter systems; and other thin film depositions systems.
Minnesota Dehydrated Vegetables, Inc | 915 Omland Avenue North, Fosston, MN 56542 | 2/2/2004 | Dried carrots.
Gourmet Foods, Inc | 367 Persimmon Hill Lane, Lampe, MO 65681 | 2/4/2004 | Berry and honey products.
Pro-Safe Professional Linens, Inc. dba ProSafe Products | 1240 Pitkin Avenue, Grand Junction, CO 81501 | 2/6/2004 | Disposable infection control protective covers.
RAM Fabricating Corporation | 412 Wavel Street, Syracuse, NY 13206 | 2/9/2004 | Metal tubing assemblies and parts.
Chanticleer Pottery | 711 West Russell Street, Ironton, MO 63650 | 2/10/2004 | Hand made pottery.
Cornerstone Steel Inc | 925 Hastings Avenue, Searcy, AR 72145 | 2/10/2004 | Steel, bridge sections.
Eagle Electronics, Inc | 1735 Mitchell Boulevard, Schaumburg, IL 60193 | 2/10/2004 | Multi-layer printed circuit boards.
PlaySmart, Inc | 107 North Missouri Ave., Sedalia, MO 65301 | 2/10/2004 | Soft playground equipment.
Stern Leach Company | 49 Pearl Street, Attleboro, MA 02703 | 2/10/2004 | Silver flat, wire, and tubing stock and grains/solder.
Sunline Coach Company, Inc | 245 South Muddy Creek Rd., Denver, PA 17517 | 2/11/2004 | Towable travel trailers.
Billet Industries, Inc | 247 Campbell Road, York, PA 17402 | 2/17/2004 | Machinery parts for the pump and material handling industries.
MEKanize, Inc | 1420 Quail Lake Loop, Colorado Springs, CO 80906 | 2/19/2004 | Industrial robots.
Stylex, Inc | 740 Coopertown Road, Delanco, NJ 08075 | 2/19/2004 | Office seating including task, executive, conference and stack.
O'Neil & Associates, Inc | 495 Byers Road, Miamisburg, OH 45342 | 2/29/2004 | Technical, scientific and professional books.

The petitions were submitted pursuant to section 251 of the Trade Act of 1974 (19 U.S.C. 2341). Consequently, the United States Department of Commerce has initiated separate investigations to determine whether increased imports into the United States of articles like or directly competitive with those produced by each firm contributed importantly to total or partial separation of the firm's workers, or threat thereof, and to a decrease in sales or production of each petitioning firm. Any party having a substantial interest in the proceedings may request a public hearing on the matter. A request for a hearing must be received by Trade Adjustment Assistance, Room 7315, Economic Development Administration, U.S. Department of Commerce, Washington, DC 20230, no later than the close of business of the tenth calendar day following the publication of this notice. The Catalog of Federal Domestic Assistance official program number and title of the program under which these petitions are submitted is 11.313, Trade Adjustment Assistance.

Dated: February 23, 2004.
Anthony J. Meyer,
Coordinator, Trade Adjustment and Technical Assistance.

[FR Doc. 04-4423 Filed 2-27-04; 8:45 am]

BILLING CODE 3510-24-P